DEPARTMENT OF HEALTH AND HUMAN SERVICES

Food and Drug Administration

[Docket No. 2006N-0010]

Able Laboratories, Inc.; Withdrawal of Approval of 43 Abbreviated New Drug Applications

AGENCY: Food and Drug Administration, HHS.

ACTION: Notice.

SUMMARY: The Food and Drug Administration (FDA) is withdrawing approval of 43 abbreviated new drug applications (ANDAs) held by Able Laboratories, Inc. (Able Labs), One Able Dr., Cranbury, NJ 08512. The drug products are no longer marketed, and Able Labs has requested that the approval of the applications be withdrawn.

DATES: Effective January 19, 2006.

FOR FURTHER INFORMATION CONTACT: Florine P. Purdie, Center for Drug Evaluation and Research (HFD-7), Food and Drug Administration, 5600 Fishers Lane, Rockville, MD 20857, 301-594-2041.

SUPPLEMENTARY INFORMATION: The applications listed in the table in this document are no longer marketed, and Able Labs has requested that FDA withdraw approval of the applications. The company has also, by its request, waived its opportunity for a hearing.

Application No. | Drug
40-390 | Butalbital, Acetaminophen, and Caffeine Tablets USP, 50 milligrams (mg)/325 mg/40 mg
40-394 | Butalbital, Acetaminophen, and Caffeine Tablets USP, 50 mg/500 mg/40 mg
40-402 | Phentermine Hydrochloride (HCl) Tablets USP, 37.5 mg
40-403 | Phentermine HCL Capsules USP, 30 mg (powder)
40-413 | Methocarbamol Tablets USP, 500 mg and 750 mg
40-421 | Carisoprodol Tablets USP, 350 mg
40-427 | Phentermine HCl Capsules USP, 30 mg (beads)
40-449 | Promethazine HCl Suppositories USP, 50 mg
40-464 | Hydrocodone Bitartrate and Acetaminophen Tablets USP, 7.5 mg/325 mg and 10 mg/325 mg
40-469 | Hydrocodone Bitartrate and Acetaminophen Tablets USP, 7.5 mg/750 mg
40-473 | Hydrocodone Bitartrate and Acetaminophen Tablets USP, 10 mg/500 mg
40-474 | Hydrocodone Bitartrate and Acetaminophen Tablets USP, 7.5 mg/650 mg
40-476 | Hydrocodone Bitartrate and Acetaminophen Tablets USP, 10 mg/650 mg
40-477 | Hydrocodone Bitartrate and Acetaminophen Tablets USP, 5 mg/500 mg
40-478 | Hydrocodone Bitartrate and Acetaminophen Tablets USP, 5 mg/325 mg
40-483 | Bethanechol Chloride Tablets USP, 10 mg
40-485 | Bethanechol Chloride Tablets USP, 25 mg
40-490 | Hydrocodone Bitartrate and Acetaminophen Tablets USP, 7.5 mg/500 mg
40-492 | Bethanechol Chloride Tablets USP, 5 mg
40-497 | Phentermine HCl Capsules USP, 15 mg
40-504 | Promethazine HCl Suppositories USP, 12.5 mg and 25 mg
40-509 | Bethanechol Chloride Tablets USP, 50 mg
40-529 | Methamphetamine HCl Tablets USP, 5 mg
40-539 | Theophylline Extended-Release Tablets, 600 mg
40-543 | Theophylline Extended-Release Tablets, 400 mg
40-546 | Theophylline Extended-Release Tablets, 450 mg
40-548 | Theophylline Extended-Release Tablets, 300 mg
40-558 | Promethazine HCl Tablets USP, 12.5 mg, 25 mg, and 50 mg
40-559 | Hydroxyzine HCl Tablets USP, 10 mg
40-562 | Hydroxyzine HCl Tablets USP, 25 mg
40-563 | Hydroxyzine HCl Tablets USP, 50 mg
76-114 | Indomethacin Extended-Release Capsules USP, 75 mg
76-121 | Lithium Carbonate Capsules USP, 300 mg
76-382 | Lithium Carabonate Extended-Release Tablets USP, 300 mg
76-462 | Metronidazole Extended-Release Tablets, 750 mg
76-505 | Metronidazole Capsules, 375 mg
76-519 | Metronidazole Tablets USP, 250 mg and 500 mg
76-528 | Butalbital, Acetaminophen, Caffeine, and Codeine Phosphate Capsules, 50 mg/325 mg/40 mg/30 mg
76-544 | Naproxen Sodium Tablets USP, 275 mg and 550 mg
76-666 | Indomethacin Capsules USP, 25 mg and 50 mg
76-814 | Dextroamphetamine Sulfate Extended-Release Capsules, 5 mg, 10 mg, and 15 mg
76-823 | Lithium Carbonate Capsules USP, 150 mg, 300 mg, and 600 mg
76-907 | Atenolol Tablets USP, 25 mg, 50 mg, and 100 mg

Therefore, under section 505(e) of the Federal Food, Drug, and Cosmetic Act (21 U.S.C. 355(e)) and under authority delegated to the Director, Center for Drug Evaluation and Research, by the Commissioner of Food and Drugs, approval of the applications listed in the table in this document, and all amendments and supplements thereto, is hereby withdrawn, effective January 19, 2006.

Dated: January 4, 2006.
Douglas C. Throckmorton,
Deputy Director, Center for Drug Evaluation and Research.

[FR Doc. E6-506 Filed 1-18-06; 8:45 am]

BILLING CODE 4160-01-S